DEPARTMENT OF DEFENSE

Office of the Secretary

[Docket ID: DOD-2015-OS-0013]

Notice of Availability for Finding of No Significant Impact for the Environmental Assessment Addressing Implementation of the Real Property Master Plan at Defense Distribution Depot, San Joaquin, California

AGENCY: Defense Logistics Agency (DLA), Department of Defense.

ACTION: Notice of Availability (NOA) for Finding of No Significant Impact (FONSI) for the Environmental Assessment (EA) Addressing Implementation of the Real Property Master Plan (RPMP) at Defense Distribution Depot, San Joaquin, California.

SUMMARY: On February 10, 2015, DLA published a NOA in the Federal Register (80 FR 7420) announcing the publication of the EA Addressing Implementation of the RPMP at Defense Distribution Depot, San Joaquin, California. The EA was available for a 30-day public comment period that ended March 12, 2015. The EA was prepared as required under the National Environmental Policy Act (NEPA) of 1969. In addition, the EA complied with DLA Regulation 1000.22. During the public comment period, three comment letters were received (from the U.S. Environmental Protection Agency (EPA), San Joaquin Council of Governments (SJCOG), and San Joaquin County Department of Public Works (County)). These letters were addressed directly with each agency via written correspondence and no additional comments were received. The public comments are addressed in the SUPPLEMENTARY INFORMATION section of this notice. An appendix was added to the EA that includes the three agency comments and the DLA response letters. The revised EA has been posted to Docket ID: DOD-2015-OS-0013.

FOR FURTHER INFORMATION CONTACT: Ira Silverberg at 703-767-0705 during normal business hours Monday through Friday, from 8:00 a.m. to 4:30 p.m. (EDT), or by email: ira.silverberg@dla.mil.

SUPPLEMENTARY INFORMATION: To summarize the comments received, the EPA expressed concerns about the process that DLA will use to identify and manage asbestos-containing materials and polychlorinated biphenyls (PCBs) during demolition of buildings, to avoid the potential dispersal of Valley Fever spores during ground-disturbing activities, and to determine the appropriate level of NEPA analysis for individual projects. The SJCOG asked for more details about cumulative traffic impacts of the proposed projects. The County also requested additional analysis of transportation impacts and recommended preparing a full Traffic Impact Study in accordance with County Guidelines. In addition, the County was concerned about the potential impacts resulting from the development of 460 acres of prime farmland. DLA considered all comments before making the determination to proceed with a FONSI. Specifically, DLA response letters emphasized that the real property master plan and its component plans are planning level documents used to provide DLA with information to support future capital investment decisions and real property decisions. These documents provide general direction for potential areas and timing for future development. However, until funding is available for the anticipated projects, there is insufficient design information available to conduct detailed analyses, such as a Traffic Impact Study. A more detailed NEPA review will be conducted for individual projects once these projects are further defined. These NEPA analyses will assess the additional impacts identified during the comment period. Specifically, with regard to traffic impacts, DLA noted its ongoing efforts to reduce traffic impacts and greenhouse gas emissions, to promote mass transit options, and to provide flexible work schedules. In addition, DLA committed to engaging the County, SJCOG, and the City of Tracy to conduct a Traffic Impact Study once future projects are further defined. DLA also committed to secure all necessary approvals and permits for potential projects prior to construction. Further, DLA said it will coordinate with the Department of Agriculture and Natural Resources Conservation Service prior to conversion of prime farmland. This FONSI documents the decision of DLA to implement the RPMP and its component plans at Defense Distribution Depot, San Joaquin, California. DLA has determined that the Proposed Action is not a major Federal action significantly affecting the quality of the human environment within the context of NEPA and no significant impacts on the human environment are associated with this decision.

DLA completed an EA to address the potential environmental consequences associated with the proposed implementation of the RPMP and its component plans at Defense Distribution Depot, San Joaquin, California. This FONSI incorporates the EA by reference and summarizes the results of the analyses in the EA.

Purpose of and Need for Action: The purpose of the Proposed Action is to implement Defense Distribution Depot, San Joaquin's RPMP and its component plans to establish a foundation that provides direction for future development of the facilities, infrastructure, land use, and environmental conditions at the installation. The Proposed Action is needed to ensure that the installation is able to meet its current and future mission logistics and warehousing requirements while ensuring the energy efficiency and sustainability of the installation.

Proposed Action and Alternatives: Under the Proposed Action, DLA would implement the installation's RPMP and its component plans. The RPMP provides the direction for future development of the installation over the next 20 years and identifies a series of building, infrastructure, and energy projects that would ensure the installation is able to meet its current and future logistics and warehousing mission requirements in a sustainable and environmentally conscious manner.

Implementing the projects in the RPMP would improve mission capability and installation efficiency by siting and designing modern, energy-efficient, sustainable buildings and infrastructure to supplement existing facilities (and in the future, replace outdated facilities) and by upgrading existing buildings and infrastructure to address life, safety, security, and mission deficiencies. The proposed projects include the construction of 2,170,100 square feet of new buildings and the demolition of 657,822 square feet of existing buildings. The top planning needs that would be addressed through implementation of the RPMP are siting Warehouse 59 and replacing the outside storage area, siting the proposed redesigned access control point, and siting the programmed military construction projects. Additionally, the proposed projects include renewable energy and utility projects; improvements to buildings, roads and pavements, and other infrastructure; and implementation of measures to reduce consumption of energy and water and generation of waste. All projects would be sited to maximize functionality and encourage consolidation and reuse or redevelopment, and be designed to incorporate Net-Zero Energy (NZE) and other sustainable measures.

Component plans of the RPMP include the NZE Study, Sustainability Plan (SP), and Integrated Pest Management Plan (IPMP) for the installation. The NZE Study balances the installation's future energy demand from buildings, industrial processes, fleet vehicles, and equipment with onsite and offsite renewable energy production. The SP provides a pathway for the installation to move toward compliance with relevant Federal mandates regarding sustainability. The IPMP is the installation's annual plan for its pest management program.

Implementation of the NZE Study, SP, and IPMP would enable the installation to reduce energy and fossil fuel use, increase alternative fuel use, achieve an NZE footprint, meet or exceed relevant Federal sustainability mandates, practice sound natural resources stewardship, comply with environmental policies and regulations, and reduce reliance on pesticides while reducing real property damage and maintenance costs.

Description of the No Action Alternative: Under the No Action Alternative, DLA would not implement the RPMP or its component plans. In general, implementation of the No Action Alternative would require DLA to continue using existing undersized and inefficient facilities and abandon the proposed facility expansion, infrastructure enhancement, sustainability improvement, and pest management actions of the RPMP and its component plans, which would hamper the ability of the installation to meet its current and future mission requirements. The No Action Alternative would not meet the purpose of and need for the Proposed Action.

Potential Environmental Impacts: No significant effects on environmental resources would be expected from the Proposed Action. Insignificant, adverse effects on noise, geological resources, water resources, biological resources, transportation and infrastructure, and hazardous materials and wastes would be expected. Insignificant, beneficial effects on land use and recreation, air quality, water resources, biological resources, transportation and infrastructure, and hazardous materials and wastes also would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any Federal, state, or local laws. Based on the results of the analyses performed during preparation of the EA and consideration of comments received during the public comment period, Ms. Denise Miller, Director, DLA Installation Support, concludes that implementation of the RPMP and its component plans at Defense Distribution Depot, San Joaquin, California, does not constitute a major Federal action significantly affecting the quality of the human environment within the context of NEPA. Therefore, an environmental impact statement for the Proposed Action is not required.

Dated: June 13, 2017.
Aaron Siegel,
Alternate OSD Federal Register Liaison Officer, Department of Defense.

[FR Doc. 2017-12565 Filed 6-15-17; 8:45 am]

BILLING CODE 5001-06-P